DEPARTMENT OF TRANSPORTATION

Federal Aviation Administration

Notice of Intent To Rule on Application 03-07-C-00-SAW To Impose and Use the Revenue From a Passenger Facility Charge (PFC) at Sawyer International Airport, Marquette, MI

AGENCY: Federal Aviation Administration (FAA), DOT.

ACTION: Notice of intent to rule on application.

SUMMARY: The FAA proposes to rule and invites public comment on the application to impose and use the revenue from a PFC at Sawyer International Airport under the provisions of the 49 U.S.C. 40117 and part 158 of the Federal Aviation Regulations (14 CFR part 158).

DATES: Comments must be received on or before June 6, 2003.

ADDRESSES: Comments on this application may be mailed or delivered in triplicate to the FAA at the following address: Federal Aviation Administration, Detroit Airports District Office, 11677 South Wayne Road, Suite 107, Romulus, Michigan 48174. The application may be reviewed in person at this location.

In addition, one copy of any comments submitted to the FAA must be mailed or delivered to Mr. Harold R. Pawley, Airport Manager, Sawyer International Airport at the following address: Sawyer International Airport, 225 Airport Avenue, Gwinn, Michigan 49841.

Air carriers and foreign air carriers may submit copies of written comments previously provided to the County of Marquette under § 158.23 of part 158.

FOR FURTHER INFORMATION CONTACT: Ms. Arlene B. Draper, Program Manager, Detroit Airports District Office, 11677 South Wayne Road, Suite 107, Romulus, Michigan 48174 (734-229-2929). The application may be reviewed in person at this same location.

SUPPLEMENTARY INFORMATION: The FAA proposes to rule and invites public comment on the application to impose and use the revenue from a PFC at Sawyer International Airport under the provisions of the 49 U.S.C. 40117 and part 158 of the Federal Aviation Regulations (14 CFR part 158).

On April 9, 2003 the FAA determined that the application to impose and use the revenue from a PFC submitted by County of Marquette was substantially complete within the requirements of § 158.25 of part 158. The FAA will approve or disapprove the application, in whole or in part, not later than July 29, 2003.

The following is a brief overview of the application.

Level of the proposed PFC: $4.50.

Proposed charge effective date: May 1, 2004.

Proposed charge expiration date: March 1, 2006.

Total estimated PFC revenue: $545,521.

Brief description of proposed projects: All Weather Observing System; Instrument Landing System; Airport Rotating Beacon; Runway End Identifier Lighting System and Precision Approach Path Indicator; Rehabilitate Taxiway Shoulders; Passenger Facility Charge Audit Fees; Snow Removal Equipment/Aircraft Rescue and Fire Fighting Equipment Building; Snow Removal Equipment.

Class or classes of air carriers, which the public agency has requested to be required to collect PFCs: The County of Marquette has not requested approval to exclude a class or classes of carriers from the PFC collection requirements.

Any person may inspect the application in person at the FAA office listed above under FOR FURTHER INFORMATION CONTACT.

In addition, any person may, upon request, inspect the application, notice and other documents germane to the application in person at the County of Marquette.

Issued in Des Plaines, Illinois on April 29, 2003.
Barbara J. Jordan,
Acting Manager, Planning and Programming Branch, Airports Division, Great Lakes Region.

[FR Doc. 03-11236 Filed 5-6-03; 8:45 am]

BILLING CODE 4910-13-M